DEPARTMENT OF ENERGY

Federal Energy Regulatory Commission

[Docket No. EL12-19-000]

FirstEnergy Solutions Corp., Allegheny Energy Supply Company, LLC v. PJM Interconnection, L.L.C.; Notice of Complaint

Take notice that on December 28, 2011, pursuant to section 206 and 306 of the Federal Power Act, Rule 206 of the Federal Energy Regulatory Commission's (Commission) Rules of Practice and Procedures, 18 CFR 385.206, FirstEnergy Solutions Corp., Allegheny Energy Supply Company, LLC (Complainants), collectively filed a formal complaint against PJM Interconnection, L.L.C. (Respondent) alleging that provisions of The Respondent's Open Access Transmission Tariff and Operating Agreement (OA), as related to the rules governing the funding of Financial Transmission Rights (FTR), are unjust, unreasonable, unduly discriminatory and preferential. The Complainants request that the Commission direct the Respondent to revise the Tariff and OA prior to the start of the Auction Revenue Rights allocation process in March 2012 to eliminate the references to the real-time market in the calculation of congestion charges that FTR holders receive and direct the Respondent to allocate incremental real-time transmission congestion charges to all customers of the transmission system on a pro rata basis.

The Complainant certifies that copies of the complaint were served on the contacts for PJM as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on January 13, 2012.

Dated: December 29, 2011.
Kimberly D. Bose,
Secretary.

[FR Doc. 2012-7 Filed 1-5-12; 8:45 am]

BILLING CODE 6717-01-P